DEPARTMENT OF THE INTERIOR

[133R0680R1, RR.17549897.1000000.01, RC0ZCUPCA0]

Office of the Assistant Secretary—Water and Science; Environmental Assessment of the Olmsted Hydroelectric Power Plant Replacement Project

AGENCY: Central Utah Project Completion Act Completion Office, Interior.

ACTION: Notice of intent.

SUMMARY: The Department of the Interior and the Central Utah Water Conservancy District (District), as joint leads, are preparing an Environmental Assessment (EA) to evaluate the impacts of a proposed project to replace the Olmsted Hydroelectric Power Plant.

DATES: Please submit scoping comments by January 31, 2014.

ADDRESSES: A Scoping Document associated with this effort is available at www.cuwcd.com and www.cupcao.gov. Send written comments to Mr. Chris Elison, 355 W. University Parkway, Orem, UT 84058-7303; by email to chrise@cuwcd.com; or by facsimile to the attention of Mr. Chris Elison at 801-226-7171.

FOR FURTHER INFORMATION CONTACT: Mr. Lee Baxter, Central Utah Project Completion Act Office, 302 East 1860 South, Provo, Utah 84606; by calling 801-379-1174; or email at lbaxter@usbr.gov.

SUPPLEMENTARY INFORMATION: The proposed project is located in Orem, Utah near the mouth of Provo Canyon. In October 2015, the District will assume the responsibility for operation and maintenance of the Olmsted power plant as a component of the Bonneville Unit of the Central Utah Project. The EA will provide the necessary analysis for determining potential environmental impacts associated with replacement of the Olmsted power plant and its continued operation. Principal components of the proposed project include construction of a new powerhouse; replacement of existing penstocks; incorporating the existing 10 million gallon equalization reservoir into the power plant configuration with potential impacts to the existing pressure box, raising the existing spillway, and lining a portion of the Olmsted Flowline tunnel.

Dated: December 24, 2013.
Reed R. Murray,
Program Director, Central Utah Project Completion Act, Department of the Interior.

[FR Doc. 2013-31304 Filed 12-30-13; 8:45 am]

BILLING CODE 4310-MN-P